DEPARTMENT OF AGRICULTURE

Animal and Plant Health Inspection Service

[Docket No. APHIS-2006-0069]

Notice of Request for Extension of Approval of an Information Collection; National Animal Identification System; Information Requirements for Animal Identification Number Tag Manufacturers, Managers, and Resellers

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the animal identification number management system, a component of the National Animal Identification System.

DATES: We will consider all comments that we receive on or before July 11, 2006.

ADDRESSES: You may submit comments by either of the following methods:

• Federal eRulemaking Portal: Go to http://www.regulations.gov and, in the lower “Search Regulations and Federal Actions” box, select “Animal and Plant Health Inspection Service” from the agency drop-down menu, then click on “Submit.” In the Docket ID column, select APHIS-2006-0069 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0069, Regulatory Analysis and Development, PPD, APHIS, Station 3A-03.8, 4700 River Road Unit 118, Riverdale, MD 20737-1238. Please state that your comment refers to Docket No. APHIS-2006-0069.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information regarding the animal identification number management system, contact Mr. Vincent Chapman, Program Analyst, Surveillance and Identification Programs, National Center for Animal Health Programs, VS, APHIS, 4700 River Road Unit 200, Riverdale, MD 20737; (301) 734-0739. For copies of more detailed information on the information collection, contact Mrs. Celeste Sickles, APHIS' Information Collection Coordinator, at (301) 734-7477.

SUPPLEMENTARY INFORMATION:

Title: National Animal Identification System; Information Requirements for Animal Identification Number Tag Manufacturers, Managers, and Resellers.

OMB Number: 0579-0283.

Type of Request: Extension of approval of an information collection.

Abstract: As part of its ongoing efforts to safeguard U.S. animal health, the U.S. Department of Agriculture (USDA) initiated the implementation of the National Animal Identification System (NAIS) in 2004. NAIS is a cooperative State-Federal-industry partnership to standardize and expand animal identification programs and practices to all livestock species and poultry. NAIS is being developed through the integration of three components-premises identification, animal identification, and animal tracking. The long-term goal of the NAIS is to provide animal health officials with the capability to identify all livestock and premises that have had direct contact with a disease of concern within 48 hours after discovery.

NAIS is currently a voluntary program. To ensure the NAIS not only provides the results necessary to maintain the health of the national herd but also is a program that is practical for producers and all others involved in production, USDA has adopted a phased-in approach to implementation.

The first priority has been to register premises where livestock are held with a nationally unique 7-character premises identification number (PIN). Producers with species identified by group or lot may use their premises number to establish group/lot identification numbers for their animals. Producers who have registered premises may obtain official identification devices with individual animal identification numbers (AINs).

Recently, USDA implemented the AIN Management System, a web-based system for the administration of AINs. The AINs are allocated to companies that manufacture official identification devices or technologies. Other individuals and organizations may perform roles that support the distribution of official identification devices to producers. The complete and accurate recording of the AINs distributed and assigned to each premises is imperative. There are a number of information collection and recordkeeping requirements associated with the AIN Management System, including applications to manufacture devices, distribution, and marketing.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.433333 hours per response.

Respondents: Manufacturers, distributors, and resellers of animal identification devices and/or technologies.

Estimated annual number of respondents: 2,130.

Estimated annual number of responses per respondent: 1.

Estimated annual number of responses: 2,130.

Estimated total annual burden on respondents: 3,053 hours. (Due to averaging, the total annual burden hours may not equal the product of the annual number of responses multiplied by the reporting burden per response.)

All responses to this notice will be summarized and included in the request for OMB approval. All comments will also become a matter of public record.

Done in Washington, DC, this 8th day of May 2006.
Kevin Shea,
Acting Administrator, Animal and Plant Health Inspection Service.

[FR Doc. E6-7254 Filed 5-11-06; 8:45 am]

BILLING CODE 3410-34-P